POSTAL SERVICE

Sunshine Act Meeting

Date and Time: Tuesday, May 6, 2008, at 11:30 a.m.; and Wednesday, May 7, 2008, at 8:30 a.m. and 10:30 a.m.

Place: Washington, DC, at U.S. Postal Service Headquarters, 475 L'Enfant Plaza, SW., in the Benjamin Franklin Room.

Status: May 6—11:30 a.m.—Closed; May 7—8:30 a.m.—Open; May 7—10:30 a.m.—Closed.

Matters To Be Considered

Tuesday, May 6 at 11:30 a.m. (Closed)

1. Strategic Issues.

2. Product Pricing.

3. Financial Update.

4. Personnel Matters and Compensation Issues.

5. Governors' Executive Session—Discussion of prior agenda items and Board Governance.

Wednesday, May 7 at 8:30 a.m. (Open)

1. Minutes of the Previous Meetings, April 1-2, and April 14, 2008.

2. Remarks of the Chairman of the Board.

3. Remarks of the Postmaster General and CEO.

4. Committee Reports.

Wednesday, May 7 at 8:30 am. (Open) [continued]

5. Quarterly Report on Service Performance.

6. Quarterly Report on Financial Performance.

7. Capital Investments.

a. Richmond, Virginia, Processing and Distribution Center.

b. New York, New York, International Service Center/John F. Kennedy Air Mail Center New Lease—Ground and Building.

8. Tentative Agenda for the July 29-30, 2008, meeting in Washington, DC.

Wednesday, May 7 at 10:30 a.m. (Closed)—if Needed

1. Continuation of Tuesday's closed session agenda.

Contact Person for More Information: Julie S. Moore, Secretary of the Board, U.S. Postal Service, 475 L'Enfant Plaza, SW., Washington, DC 20260-1000. Telephone (202) 268-4800.

Julie S. Moore,
Secretary.

[FR Doc. E8-9497 Filed 4-30-08; 8:45 am]

BILLING CODE 7710-12-M